DEPARTMENT OF DEFENSE

Office of the Secretary

Reserve Forces Policy Board; Notice of Federal Advisory Committee Meeting; Revision

AGENCY: Office of the Secretary of Defense, Reserve Forces Policy Board (RFPB), DoD.

ACTION: Notice of Federal Advisory Committee Meeting; revision.

SUMMARY: On Wednesday, May 14, 2014, the Department of Defense published a notice in the Federal Register announcing a Federal Advisory Committee meeting of the Reserve Forces Policy Board (79 FR 27579-27580). Subsequent to the publication of that notice, DoD realized that the sequencing of the meeting agenda presentations must be altered to accommodate scheduling difficulties with certain presentations. This notice revises the sequencing of the meeting agenda presentations and revises the times of each presentation.

DATES: Wednesday, June 4, 2014 from 8:40 a.m. to 4:30 p.m.

ADDRESSES: The address is the Pentagon, Room 3E863, Arlington, VA. An escort may be required as discussed in the meeting accessibility section.

FOR FURTHER INFORMATION CONTACT: Mr. Alex Sabol, Designated Federal Officer, (703) 681-0577 (Voice), (703) 681-0002 (Facsimile), Email—Alexander.J.Sabol.Civ@Mail.Mil. Mailing address is Reserve Forces Policy Board, 5113 Leesburg Pike, Suite 601, Falls Church, VA 22041. Web site: http://ra.defense.gov/rfpb/. The most up-to-date changes to the meeting can be found on the RFPB's Web site.

SUPPLEMENTARY INFORMATION: The Reserve Forces Policy Board must amend its meeting agenda for its meeting on June 4, 2014. The previously approved and announced agenda topics remain unchanged, but the sequencing of presentations must be altered to accommodate scheduling difficulties with certain presentations. Due to the lateness of these changes, the designated federal officer for the Reserve Forces Policy Board is unable to file an amended Federal Register notice as required by 41 CFR § 102-3.150(a). Based on the facts and circumstances, the Advisory Committee Management Officer for the Department of Defense, pursuant to 41 CFR 102-3.150(b), waives the 15-calendar day notification requirement.

This meeting is being held under the provisions of the Federal Advisory Committee Act of 1972 (FACA) (5 U.S.C., Appendix, as amended), the Government in the Sunshine Act of 1976 (5 U.S.C. 552b, as amended), and 41 CFR 102-3.150.

Purpose of the Meeting: The purpose of the meeting is to obtain, review and evaluate information related to strategies, policies, and practices designed to improve and enhance the capabilities, efficiency, and effectiveness of the Reserve Components.

Agenda: The RFPB will hold a meeting from 8:40 a.m. until 4:30 p.m.

The portion of the meeting from 10:35 a.m. to 4:30 p.m. will be closed to the public and will consist of remarks to the RFPB from the Deputy Secretary of Defense, the Acting Under Secretary of Defense (Personnel & Readiness), the Acting Deputy Assistant Secretary of Defense for Cyber Policy, and the Deputy Chief of Staff, G-3/5/7, United States Army Forces Command, each of whom will likely address future strategies for use of the Reserve Components, highlighting issues impacting reserve organizations, the right balance of Active and Reserve Component forces, the cost to maintain a strong Reserve Component, their thoughts on the increased emphasis placed on cyber security and the logical mission fit for Reserve Component members. Additionally, the RFPB's Cyber Policy Task Group plans to provide an update to the RFPB on its current findings concerning the Services' Active and Reserve cyber force structure and force structure management and will offer recommendations for Board consideration. The open portion of the meeting from 8:40 a.m. to 10:35 a.m. will consist of the Cost Methodology Update and remarks from the chairs of the three RFPB subcommittees' chairs who will provide updates on their work. The Enhancing DoD's Role in the Homeland Subcommittee plans to provide an update to the RFPB on the Presidential Nominating Convention funding recommendation and other Homeland issues being researched as possible RFPB matters of interest. The Supporting & Sustaining Reserve Component Personnel Subcommittee plans to provide an update to the RFPB on Survivor Benefits Program & Duty Status recommendations to the Secretary of Defense and discuss findings on the Service's Reserve Component Transition Assistance Programs and other Total Force Policies issues. The Ensuring a Ready, Capable, Available and Sustainable Operational Reserve Subcommittee plans to provide a discussion on the examination of Reserve enlisted and junior officer perspectives as revealed by survey data. Additionally, areas of emphasis from junior/senior enlisted leader discussions will be presented.

Meeting Accessibility: Pursuant to 5 U.S.C. 552b, as amended and 41 CFR 102-3.140 through 102-3.165, and subject to the availability of space, the meeting is open to the public from 8:40 a.m. to 10:35 a.m. Seating is based on a first-come, first-served basis. All members of the public who wish to attend the public meeting must contact Mr. Alex Sabol, the Designated Federal Officer, not later than 12:00 p.m. on Thursday, May 29, 2014, as listed in the FOR FURTHER INFORMATION CONTACT section to make arrangements for a Pentagon escort, if necessary. Public attendees requiring escort should arrive at the Pentagon Metro Entrance with sufficient time to complete security screening no later than 8:00 a.m. on June 4. To complete the security screening, please be prepared to present two forms of identification. One must be a picture identification card. In accordance with section 10(d) of the FACA, 5 U.S.C. 552b, and 41 CFR 102-3.155, the Department of Defense has determined that the portion of this meeting scheduled to occur from 10:35 a.m. to 4:30 p.m. will be closed to the public. Specifically, the Acting Under Secretary of Defense (Personnel and Readiness), in coordination with the DoD FACA Attorney, has determined in writing that this portion of the meeting will be closed to the public because it is likely to disclose matters covered by 5 U.S.C. 552b(c)(1).

Written Statements: Pursuant to 41 CFR 102-3.105(j) and 102-3.140 and section 10(a)(3) of the FACA, interested persons may submit written statements to the RFPB at any time. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's Web site.

Dated: May 21, 2014.
Aaron Siegel,
Alternate OSD Federal Register Liaison Officer, Department of Defense.

[FR Doc. 2014-12218 Filed 5-27-14; 8:45 am]

BILLING CODE 5001-06-P